DEPARTMENT OF COMMERCE

International Trade Administration

[A-552-801]

Certain Frozen Fish Fillets from the Socialist Republic of Vietnam: Extension of Deadline for Preliminary Results of the New Shipper Review

AGENCY: Import Administration, International Trade Administration, Department of Commerce.

DATES: Effective Date: November 10, 2011

FOR FURTHER INFORMATION CONTACT: Emeka Chukwudebe, AD/CVD Operations, Office 9, Import Administration, International Trade Administration, U.S. Department of Commerce, 14th Street and Constitution Avenue NW., Washington, DC 20230; telephone: (202) 482-0219.

Background

On August 12, 2003, the Department of Commerce (“Department”) published in the Federal Register, the antidumping duty order on certain frozen fish fillets from the Socialist Republic of Vietnam (“Vietnam”).¹ On March 31, 2011, the Department published a notice of initiation of a new shipper review with respect to Thuan An Production Trading & Services Co., Ltd. (“TAFISHCO”) covering the period August 1, 2010, through January 31, 2011.² On September 27, 2011, the Department published a notice of an extension of the time period for the preliminary results of this new shipper review by 45 days, to November 4, 2011.³

¹ See Notice of Antidumping Duty Order: Certain Frozen Fish Fillets from the Socialist Republic of Vietnam, 68 FR 47909 (August 12, 2003).

² See Certain Frozen Fish Fillets From the Socialist Republic of Vietnam: Initiation of Antidumping Duty New Shipper Review, 76 FR 17837 (March 31, 2011).

³ See Certain Frozen Fish Fillets From the Socialist Republic of Vietnam: Extension of Time Limit for Preliminary Results of the New Shipper Review, 76 FR 59658 (September 27, 2011).

Extension of Time Limits for Preliminary Results

Section 751(a)(2)(B)(iv) of the Act and 19 CFR 351.214(i)(1), requires the Department to issue the preliminary results in a new shipper review of an antidumping duty order 180 days after the date on which the new shipper review was initiated. The Department may however, extend the deadline for completion of the preliminary results of a new shipper review to 300 days if it determines that the case is extraordinarily complicated. See 19 CFR 351.214(i)(2).

The Department determines that this new shipper review involves extraordinarily complicated methodological issues. Interested parties have submitted voluminous surrogate country comments and surrogate value data, and thus, the Department requires additional time to analyze these data. We are, therefore, further extending the time for the completion of the preliminary results of this new shipper review by 31 days to December 5, 2011. The final results continue to be due 90 days after the publication of the preliminary results.

This notice is published in accordance with sections 751(a)(2)(B)(iv) of the Act.

Dated: November 4, 2011.
Gary Taverman,
Acting Deputy Assistant Secretary for Antidumping and Countervailing Duty Operations.

[FR Doc. 2011-29172 Filed 11-9-11; 8:45 am]

BILLING CODE 3510-DS-P